DEPARTMENT OF LABOR

Employment and Training Administration

[TA-W-55,518]

BASF Corporation Freeport, TX; Notice of Revised Determination on Reconsideration

On January 12, 2005, the Department of Labor issued a Notice of Affirmative Determination Regarding Application for Reconsideration applicable to the subject firm. The Notice will soon be published in the Federal Register.

The initial investigation found that workers are separately identifiable by product line (polycaprolactum, oxo, diols, and acrylic monomers), that polycaprolactum, oxo and diol production increased during the relevant period, and that the subject company neither increased imports of acrylic monomers during the relevant period nor shifted acrylic monomer production abroad.

The petitioner asserted in the request for reconsideration that the worker separations at the subject firm were the result of a shift of production of acrylic monomers to China.

During the reconsideration investigation, it was found that workers are not separately identifiable by product line, subject facility production ceased in December 2003, production shifted to an affiliated facility located in Europe, and the subject firm increased their reliance on imports during the relevant period.

The investigation also revealed that the criteria for alternative trade adjustment assistance have been met. A significant number or proportion of the worker group are age fifty years or over and workers possess skills that are not easily transferable. Competitive conditions within the industry are adverse.

Conclusion

After careful review of the additional facts obtained on reconsideration, I conclude that increased imports of articles like or directly competitive with those produced at BASF Corporation, Freeport, Texas contributed importantly to worker separations at the subject firm.

In accordance with the provisions of the Act, I make the following certification:

All workers of BASF Corporation, Freeport, Texas, who became totally or partially separated from employment on or after August 30, 2003, through two years from the date of this certification, are eligible to apply for adjustment assistance under Section 223 of the Trade Act of 1974, and are also eligible to apply for alternative trade adjustment assistance under Section 246 of the Trade Act of 1974.

Signed in Washington, DC this 21st day of January 2005.
Elliott S. Kushner,
Certifying Officer, Division of Trade Adjustment Assistance.

[FR Doc. E5-990 Filed 3-8-05; 8:45 am]

BILLING CODE 4510-30-P